ENVIRONMENTAL PROTECTION AGENCY

[OPP-2002-0014; FRL-6833-5]

Region III Strategic Agriculture Grants; Notice of Availability

AGENCY: Environmental Protection Agency (EPA).

ACTION: Notice.

SUMMARY: EPA Region III is announcing the availability of approximately $150,000 in fiscal year (FY) 2002 grant/cooperative agreement funds under section 20 of the Federal Insecticide, Fungicide, and Rodenticide Act (FIFRA) as amended, (the Act), for grants to States and federally recognized Native American Tribes for research, public education, training, monitoring, demonstration, and studies. For convenience, the term “State” in this notice refers to all eligible applicants.

DATES: In order to be considered for funding during the FY 2002 award cycle, all applications must be received by EPA Region III on or before May 28, 2002. EPA will make its award decisions by May 31, 2002.

ADDRESSES: Please submit applications to the contact under Unit V. of the SUPPLEMENTARY INFORMATION.

FOR FURTHER INFORMATION CONTACT: Susie Chun, Environmental Protection Agency, Region III, Mail code 3WC32, Waste Chemicals and Management Division, 1650 Arch Street, Philadelphia, PA 19103-2029; telephone number: (215) 814-2469; fax number: (215) 814-3113; e-mail address: chun.susie@epa.gov.

SUPPLEMENTARY INFORMATION:

I. General Information

A. Does this Action Apply to Me?

This action is directed to the public in general. This action may, however, be of interest to eligible applicants who primarily operate out of and will conduct the project in one of the following Region III States: Delaware, District of Columbia, Maryland, Pennsylvania, Virginia, and West Virginia. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. By mail or in person. Contact the person listed underFOR FURTHER INFORMATION CONTACT.

II. Availability of FY 2002 Funds

With this publication, EPA Region III is announcing the availability of approximately $150,000 in grant/cooperative agreement funds for FY 2002. Region III is seeking to fund three grants. The Agency has delegated grant making authority to the EPA Regional Offices. EPA Region III is responsible for the solicitation of interest, the screening of proposals, and the selection of projects. Grant guidance will be provided to all applicants along with any supplementary information Region III may wish to provide. All applicants must address the criteria listed under Unit IV.B. of this document. Interested applicants should contact the Regional Strategic Agriculture Initiative Coordinator listed under Unit V. for more information.

III. Eligible Applicants

In accordance with the Act “. . . Federal agencies, universities, or others as may be necessary to carry out the purposes of the act, . . .” are eligible to receive a grant. Eligible applicants for purposes of funding under this grant program include those operating within the six EPA Region III States (Delaware, District of Columbia, Maryland, Pennsylvania, Virginia, and West Virginia), and any agency or instrumentality of a Region III State including State universities and non-profit organizations operating within a Region III State. For convenience, the term “State” in this notice refers to all eligible applicants.

IV. Activities and Criteria

A. General

The goal of the Strategic Agriculture Initiative Grant Program is to reduce the risks and use of pesticides in agricultural settings. Another goal is to rapidly spread available technology and information about ways to reduce dependence on the more highly toxic pesticides.

B. Criteria

Proposals will be evaluated based on the following criteria:

1. Qualifications and experience of the applicant relative to the proposed project.

• Does the applicant demonstrate experience in the field of the proposed activity?

• Does the applicant have the properly trained staff, facilities, or infrastructure in place to conduct the project?

2. Consistency of applicant's proposed project with the risk reduction goal of the Strategic Agriculture Initiative.

3. Provision for a quantitative or qualitative evaluation of the project's success at achieving the stated goals.

• Is the project designed in such a way that it is possible to measure and document the results quantitatively and qualitatively?

• Does the applicant identify the method that will be used to measure and document the project's results quantitatively and qualitatively?

• Will the project assess or suggest a means for measuring progress in reducing risk associated with the use of pesticides?

4. Likelihood the project can be replicated to benefit other communities or the product may have broad utility to a widespread audience. Can this project, taking into account typical staff and financial restraints, be replicated by similar organizations in different locations to address the same or similar problem?

C. Program Management

Awards of FY 2002 funds will be managed through EPA Region III. Quality Managment Plans and Quality Assurance Project Plans may be required, depending on the nature of the project and the data collected. Contact your Regional Strategic Agirculture Initiative Coordinator for more information about this requirement.

D. Contacts

Interested applicants must contact the appropriate EPA Regional Strategic Agriculture Initiative Coordinator listed under Unit V. to obtain specific instructions, regional criteria, and guidance for submitting proposals.

V. Region III Strategic Agriculture Initiative Program Contact

Region III: (Delaware, District of Columbia, Maryland, Pennsylvania, Virginia, and West Virginia), Susie Chun, (3WC32), 1650 Arch St., Philadelphia, PA 19103; telephone (215) 814-2469; fax number: (215) 814-3113; e-mail address: chun.susie@epa.gov.

VI. Submission to Congress and the Comptroller General

Under the Agency's current interpretation of the definition of a “rule,” grant solicitations such as this which are competitively awarded on the basis of selection criteria, are considered rules for the purpose of the Congressional Review Act (CRA). The CRA, 5 U.S.C. 801et seq., as added by the Small Business Regulatory Enforcement Fairness Act of 1996 (SBREFA), generally provides that before a rule may take effect, the agency promulgating the rules must submit a rule report, which includes a copy of the rule, to each House of the Congress and to the Comptroller General of the United States. EPA will submit a report containing this rule and other required information to the U.S. Senate, the U.S. House of Representatives, and the Comptroller General of the United States prior to publication of the rule in the Federal Register. This rule is not a “major rule“ as defined by 5 U.S.C. 804(2).

List of Subjects

Environmental protection, Pesticides.

Dated: April 11, 2002.
James W. Newsom,
Acting Regional Adminstrator, Region III.

[FR Doc. 02-10042 Filed 4-24-02 8:45 am]

BILLING CODE 6560-50-S